FEDERAL MARITIME COMMISSION

Ocean Transportation Intermediary License; Applicants

Notice is hereby given that the following applicants have filed with the Federal Maritime Commission an application for license as Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Int'l Cargo, LLC, 98 Craig Road, Manalapan, NJ 07726. Officer: Katherine Buonomo, President (Qualifying Individual).

Delcon Line (USA), Inc., 18726 Western Avenue, Gardena, CA 90248. Officers: Sunee Noh, Managing Director (Qualifying Individual) Doo Hee Lee, CEO.

All Transport LLC, 2824 May Avenue, Redondo Beach, CA 90278. Officer: Andres J. Villablanca, CEO Qualifying Individual.

Top Line Logistics Inc., 147-40 184th Street, Jamaica, NY 11413. Officers: Almon S.C. Lee, President (Qualifying Individual) Violet Horng, Vice President.

Remnant Shipping, Inc., 14928 S. Figueroa Street, Gardena, CA 90248. Officer: Soonyoung Chung, CEO (Qualifying Individual).

Fashion Container Line LLC dba FMI Inc. dba, FMI Trucking dba FMI International, 800 Federal Blvd., Carteret, NJ 07008. Officers: Geoff Tice, Vice President (Qualifying Individual) Ernie DeSaye, President.

Navivan Corp., 200 Crofton Road, Suite 2, Bldg. 10-B, Kenner, LA 70062. Officers: Ivan Lopez, Director (Qualifying Individual) Eric Lopez, Director.

Global Freight Transport Inc., 17 Jessica Lane, North Brunswick, NJ 08902. Officer: William Roach, President (Qualifying Individual).

Diaz & Flores, Inc., RR 3, Box 4550, San Juan, PR 00928. Officers: Rosa Marina Flores, President (Qualifying Individual) Paulette Diaz Barbosa, Vice President.

Non-Vessel Operating Common Carrier and Ocean Freight Forwarder Transportation Intermediary Applicants

Caribbean Int'l Cargo Transport, Inc. dba, Caribbean Int'l Forwarders and Consolidators, Inc., 2759 NW 82 Avenue, Miami, FL 33122. Officers: Soraya Quintana, Export Agent (Qualifying Individual) Joaquin Hernandez, Director.

Sun Island Freight L.C., 17401 NW 8th Street, Pembroke Pines, FL 33029. Officers: Jerome Anthony Lafond, Treasurer/Secretary (Qualifying Individual) Maurice Holder, President.

1st Class International, Inc., 8242 A Sandy Court, Jessup, MD 20794. Officer: Raef Boussi, President (Qualifying Individual).

Embassy Cargo NJ Inc., 45 Tamarack Circle, Skillman, NJ 08558. Officers: Silvio Travia, President (Qualifying Individual) Fabrizio Travia, Vice President.

Momentum Logistics Corp., 16311 Stone Grove Lane, Cerritos, CA 90703. Officer: Ralph Koo, Director/President.

Swiftpak, Inc., 17352 SW 35th Street, Miramar, FL 33029. Officers: Jacquelin Carter, President (Qualifying Individual) Howard Carter, CEO.

Ocean Freight Forwarder—Ocean Transportation Intermediary Applicants

AJB International Transport, Inc., 5013 North Hale Avenue, Tampa, FL 33614. Officer: Alejandro Barbosa, President (Qualifying Individual).

Worchel Transport Inc. dba Prime Transport, 150-4 183rd Street, Springfield Gardens, NY 11413. Officers: Sam Fischel, President (Qualifying Individual) David Wortman, Vice President.

Sun Continental Logistics, Inc., 10834 S. La Cienega Blvd., Inglewood, CA 90304. Officers: Jack Y. M. Kao, President (Qualifying Individual) Yoke Liu, Vice President.

Dated: March 29, 2002.
Bryant L. VanBrakle,
Secretary.

[FR Doc. 02-8044 Filed 4-2-02; 8:45 am]

BILLING CODE 6730-01-P